FEDERAL RESERVE SYSTEM

Consumer Advisory Council; Solicitation of Nominations for Membership

AGENCY: Board of Governors of the Federal Reserve System.

ACTION: Notice

SUMMARY: The Board is inviting the public to nominate qualified individuals for appointment to its Consumer Advisory Council, whose membership represents interests of consumers, communities, and the financial services industry. New members will be selected for three-year terms that will begin in January 2004. The Board expects to announce the selection of new members by year-end 2003.

DATE: Nominations must be received by August 15, 2003. NOMINATIONS NOT RECEIVED BY AUGUST 15, MAY NOT BE CONSIDERED.

ADDRESSES: Nominations, including a résumé for each nominee, must be received by August 15, 2003. Electronic nominations are preferred. The appropriate form can be accessed at: http://www.federalreserve.gov/forms/cacnominationform.cfm

If electronic submission is not feasible, the nominations can be mailed (not sent by facsimile) to Sandra F. Braunstein, Senior Associate Director, Division of Consumer and Community Affairs, Board of Governors of the Federal Reserve System, Washington, D.C. 20551.

FOR FURTHER INFORMATION CONTACT: Ann Bistay, Secretary of the Council, Division of Consumer and Community Affairs, (202) 452-6470, Board of Governors of the Federal Reserve System, Washington, D.C. 20551.

SUPPLEMENTARY INFORMATION: The Consumer Advisory Council was established in 1976 at the direction of the Congress to advise the Federal Reserve Board on the exercise of its duties under the Consumer Credit Protection Act and on other consumer-related matters. The Council by law represents the interests both of consumers and of the financial services industry (15 USC 1691(b)). Under the Rules of Organization and Procedure of the Consumer Advisory Council (12 CFR 267.3), members serve three-year terms that are staggered to provide the Council with continuity.

New members will be selected for terms beginning January 1, 2004, to replace members whose terms expire in December 2003; the Board expects to announce its appointment of new members by year-end. Nomination letters should include:

•a résumé;

•information about past and present positions held by the nominee;

•a description of special knowledge, interests or experience related to community reinvestment, consumer protection regulations, consumer credit, or other consumer financial services;

•full name, title, organization name, organization description for both the nominee and the nominator;

•current address, telephone and fax numbers for both the nominee and the nominator; and

•positions held in community organizations, and on councils, and boards.

Individuals may nominate themselves.

The Board is interested in candidates who have familiarity with consumer financial services, community reinvestment, and consumer protection regulations, and who are willing to express their viewpoints. Candidates do not have to be experts on all levels of consumer financial services or community reinvestment, but they should possess some basic knowledge of the area. They must be able and willing to make the necessary time commitment to participate in conference calls, and prepare for and attend meetings three times a year (usually for two days, including committee meetings), held at the Board's offices in Washington, D.C. The Board pays travel expenses, lodging, and a nominal honorarium.

In making the appointments, the Board will seek to complement the background of continuing Council members in terms of affiliation and geographic representation, and to ensure the representation of women and minority groups. The Board may consider prior years' nominees and does not limit consideration to individuals nominated by the public when making its selection.

Council members whose terms end as of December 31, 2003, are:

Anthony Abbate

President and Chief Executive Officer

Interchange Bank

Saddle Brook, New Jersey

Manuel Casanova, Jr.

Executive Vice President

International Bank of Commerce

Brownsville, Texas

Constance Chamberlin

President/CEO

Housing Opportunities Made Equal

Richmond, Virginia

Earl Jarolimek

Vice President/Corporate Compliance Officer

Community First Bankshares

Fargo, North Dakota

J. Patrick Liddy

Director of Compliance

Fifth Third Bancorp

Cincinnati, Ohio

Oscar Marquis

Attorney

Hunton and Williams

Park Ridge, Illinois

Ronald Reiter

Supervising Deputy Attorney General

California Department of Justice

San Francisco, California

Elizabeth Renuart

Staff Attorney

National Consumer Law Center

Boston, Massachusetts

Council members whose terms continue through 2004 and 2005 are:

Janie Barerra

President and Chief Executive Officer

ACCION Texas

San Antonio, Texas

Kenneth Bordelon

Chief Executive Officer

E Federal Credit Union

Baton Rouge, Louisiana

Susan Bredehoft

Senior Vice President/Compliance Risk Management

Commerce Bank, N.A.

Cherry Hill, New Jersey

Robin Coffey

Vice President

Harris Trust and Savings Bank

Chicago, Illinois

Dan Dixon

Group Senior Vice President

World Savings Bank, FSB

Washington, District of Columbia

Thomas FitzGibbon

Senior Vice President

MB Financial Bank, N.A.

Chicago, Illinois

James Garner

Senior Vice President and General Counsel

North America Consumer Finance for Citigroup

Baltimore, Maryland

R. Charles Gatson

Vice President

Midtown Community Development Corporation

Kansas City, Missouri

Larry Hawkins

President and Chief Executive Officer

Unity National Bank

Houston, Texas

James King

President and Chief Executive Officer

Community Redevelopment Group

Cincinnati, Ohio

Ruhi Maker

Senior Attorney

Public Interest

Law Office of Rochester

Rochester, New York

Patricia McCoy

Professor of Law

Department of Economics

Cambridge, Massachusetts

Elsie Meeks

Executive Director

First Nations Oweesta Corporation

Kyle, South Dakota

Mark Pinsky

President and Chief Executive Officer

National Community Capital Association

Philadelphia, Pennsylvania

Debra Reyes

President

Neighborhood Lending Partners, Inc.

Tampa, Florida

Benson Roberts

Vice President for Policy

Local Initiatives Support Corporation

Washington, District of Columbia

Benjamin Robinson

Senior Vice President, Strategy Management Executive

Bank of America

Charlotte, North Carolina

Agnes Bundy Scanlan

Managing Director and Chief Privacy Officer

FleetBoston Financial

Boston, Massachusetts

Diane Thompson

Supervising Attorney

Land of Lincoln Legal Assistance Foundation, Inc.

East St. Louis, Illinois

Hubert Van Tol

Co—Director

Fairness in Rural Lending

Sparta, Wisconsin

Clint Walker

General Counsel/Chief Administrative Officer

Juniper Bank

Wilmington, Delaware

Board of Governors of the Federal Reserve System, May 30, 2003.

Jennifer J. Johnson
Secretary of the Board

[FR Doc. 03-14114 Filed 6-4-03; 8:45 am]

BILLING CODE 6210-01-S